DEPARTMENT OF VETERANS AFFAIRS

Privacy Act of 1974

AGENCY: Department of Veterans Affairs (VA).

ACTION: Notice of new system of records; reopen comment period.

SUMMARY: The Privacy Act of 1974, 5 U.S.C. 552(e)(4), requires that all agencies publish in the Federal Register a notice of the existence and character of their systems of records. On October 24, 2006, the Department of Veterans Affairs (VA) published a notice of a new system of records entitled “Automated safety Incident Surveillance and tracking System—VA” (99VA13). 71 FR 62347-62350. The system notice provided for a comment period ending November 24, 2006, and if no comments were received during that period of time, the system of records was to be effective on that date. 71 FR 62347. On November 24, 2006, the comment period was extended until December 26, 2006. In response to a request for additional time in which to submit comments, the Department of Veterans Affairs is hereby reopening the comment period until October 9, 2007. All written comments previously received will be considered and need not be resubmitted.

DATES: The comment period is reopened to October 9, 2007. Comments must be received on or before October 9, 2007. If no public comment is received, the new system will become effective October 9, 2007.

ADDRESSES: Written comments may be submitted through www.Regulations.gov; by mail or hand-delivery to the Director, Regulations Management (00REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 273-9515 for an appointment. In addition, during the comment period, comments may be viewed online through the Federal Docket Management System (FDMS).

FOR FURTHER INFORMATION CONTACT: Veterans Health Administration Privacy Officer, Department of Veterans Affairs, 810 Vermont Ave., NW., Washington, DC 20420, telephone (727) 320-1839.

Approved: April 3, 2007.
Robert C. McFetridge,
Assistant to the Secretary for Regulation Policy and Management.

[FR Doc. 07-1738 Filed 4-6-07; 8:45 am]

BILLING CODE 8320-01-M